DEPARTMENT OF COMMERCE

International Trade Administration

[A-570-909]

Certain Steel Nails From the People's Republic of China: Preliminary Results of the Antidumping Duty Administrative Review and Preliminary Determination of No Shipments; 2014-2015

AGENCY: Enforcement and Compliance, International Trade Administration, Department of Commerce.

SUMMARY: The Department of Commerce (“Department”) is conducting the sixth administrative review of the antidumping duty order on certain steel nails (“nails”) from the People's Republic of China (“PRC”). The Department preliminarily determines that Stanley Works (Langfang) Fastening Systems Co., Ltd. and Stanley Black & Decker, Inc. (collectively “Stanley”) sold subject merchandise in the United States at prices below normal value (“NV”) during the period of review (“POR”), August 1, 2014, through July 31, 2015. The Department also preliminarily determines that Tianjin Lianda Group Co., Ltd. (“Tianjin Lianda”) failed to demonstrate that it is entitled to a separate rate and has been treated as part of the PRC-wide entity. If these preliminary results are adopted in the final results, the Department will instruct U.S. Customs and Border Protection (“CBP”) to assess antidumping duties on all appropriate entries of subject merchandise during the POR. Interested parties are invited to comment on these preliminary results.

DATES: Effective September 12, 2016.

FOR FURTHER INFORMATION CONTACT: Susan Pulongbarit or Omar Qureshi, AD/CVD Operations, Office V, Enforcement and Compliance, International Trade Administration, U.S. Department of Commerce, 14th Street and Constitution Avenue NW., Washington, DC 20230; telephone: (202) 482-4031 or (202) 482-5307, respectively.

SUPPLEMENTARY INFORMATION:

Background

On October 6, 2015, the Department initiated the seventh administrative review of the antidumping duty order on nails from the PRC for the period August 1, 2014, through July 31, 2014.¹ On April 14, 2015, the Department partially extended the deadline for issuing the preliminary results by 90 days.² On August 4, 2016, the Department fully extended the deadline for issuing the preliminary results by 30 days, to September 5, 2016.³

¹ See Initiation of Antidumping and Countervailing Duty Administrative Reviews, 79 FR 58729 (September 30, 2014) (“Initiation Notice”).

² See Memorandum to Christian Marsh, Deputy Assistant Secretary for Antidumping and Countervailing Duty Operations, through James C. Doyle, Director, Office V, Antidumping and Countervailing Duty Operations, from Omar Qureshi, International Trade Compliance Analyst, Antidumping and Countervailing Duty Operations, regarding “Certain Steel Nails from the People's Republic of China: Extension of Deadline for Preliminary Results of 2014-2015 Antidumping Duty Administrative Review,” dated April 14, 2016.

³ See Memorandum to Christian Marsh, Deputy Assistant Secretary for Antidumping and Countervailing Duty Operations, through James C. Doyle, Director, Office V, Antidumping and Countervailing Duty Operations, from Omar Qureshi, International Trade Compliance Analyst, Antidumping and Countervailing Duty Operations, regarding “Certain Steel Nails from the People's Republic of China: Second Extension of Deadline for Preliminary Results of 2014-2015 Antidumping Duty Administrative Review,” dated August 4, 2016.

Scope of the Order

The merchandise covered by the order includes certain steel nails having a shaft length up to 12 inches. Certain steel nails subject to the order are currently classified under the Harmonized Tariff Schedule of the United States (“HTSUS”) subheadings 7317.00.55, 7317.00.65, 7317.00.75, and 7907.00.6000.⁴ While the HTSUS subheadings are provided for convenience and customs purposes, the written description of the scope of the order is dispositive.⁵

⁴ The Department recently added the Harmonized Tariff Schedule category 7907.00.6000, “Other articles of zinc: Other,” to the language of the Order. See Memorandum to Gary Taverman, Senior Advisor for Antidumping and Countervailing Duty Operations, through James C. Doyle, Director, Office 9, Antidumping and Countervailing Duty Operations, regarding “Certain Steel Nails from the People's Republic of China: Cobra Anchors Co. Ltd. Final Scope Ruling,” dated September 19, 2013.

⁵ See “Certain Steel Nails from the People's Republic of China: Decision Memorandum for the Preliminary Results of the 2013-2014 Antidumping Duty Administrative Review,” (“Preliminary Decision Memorandum”), dated concurrently with these results and hereby adopted by this notice, for a complete description of the Scope of the Order.

Preliminary Determination of No Shipments

Based on the no-shipments letters filed by 11 companies subject to this review, the Department preliminarily determines that these companies did not have any reviewable transactions during the POR. For additional information regarding this determination, including a list of these companies, see the Preliminary Decision Memorandum. Consistent with our assessment practice in non-market economy (“NME”) cases, the Department is not rescinding this review for these companies, but intends to complete the review and issue appropriate instructions to CBP based on the final results of the review.⁶

⁶ See Non-Market Economy Antidumping Proceedings: Assessment of Antidumping Duties, 76 FR 65694, 65694-95 (October 24, 2011) and the “Assessment Rates” section, below.

Separate Rates

The Department preliminarily determines that information placed on the record by the mandatory respondent Stanley, as well as by the 21 other separate rate applicants,⁷ demonstrates that these companies are entitled to separate rate status. For additional information, see the Preliminary Decision Memorandum.

⁷ We note that Mingguang Ruifeng Hardware Products Co., Ltd. and Mingguang Abundant Hardware Products Co., Ltd. are one company.

PRC-Wide Entity

The Department's policy regarding conditional review of the PRC-wide entity applies to this administrative review.⁸ Under this policy, the PRC-wide entity will not be under review unless a party specifically requests, or the Department self-initiates, a review of the entity. Because no party requested a review of the PRC-wide entity in this review, the entity is not under review and the entity's rate is not subject to change (i.e., 118.04 percent).⁹ Aside from the no shipments and separate rate companies discussed above, the Department considers all other companies for which a review was requested,¹⁰ as well as Tianjin Lianda, to be part of the PRC-wide entity. For additional information, see the Preliminary Decision Memorandum; see also Appendix 2 for a list of companies considered as part of the PRC-wide entity.

⁸ See Antidumping Proceedings: Announcement of Change in Department Practice for Respondent Selection in Antidumping Duty Proceedings and Conditional Review of the Nonmarket Economy Entity in NME Antidumping Duty Proceedings, 78 FR 65963 (November 4, 2013).

⁹ See, e.g., id.; Certain Steel Nails from the People's Republic of China: Final Results of Antidumping Duty Administrative Review; 2012-2013, 80 FR 18816, 18817 and accompanying Issues and Decision Memorandum (“AR5 Final Results”).

¹⁰ See Initiation of Antidumping and Countervailing Duty Administrative Reviews, 79 FR 51548, 51549 (August 29, 2014) (“All firms listed below that wish to qualify for separate rate status in the administrative reviews involving NME countries must complete, as appropriate, either a separate rate application or certification . . .”).

Rate for Separate-Rate Companies Not Individually Examined

The statute and the Department's regulations do not address the establishment of a rate to be applied to respondents not selected for individual examination when the Department limits its examination of companies subject to the administrative review pursuant to section 777A(c)(2)(B) of the Act. Generally, the Department looks to section 735(c)(5) of the Act, which provides instructions for calculating the all-others rate in an investigation, for guidance when calculating the rate for respondents not individually examined in an administrative review. Section 735(c)(5)(A) of the Act articulates a preference for not calculating an all-others rate using rates which are zero, de minimis or based entirely on facts available. Accordingly, the Department's usual practice has been to determine the dumping margin for companies not individually examined by averaging the weighted-average dumping margins for the individually examined respondents, excluding rates that are zero, de minimis, or based entirely on facts available.¹¹ Consistent with this practice, in this review, we calculated a weighted-average dumping margin for Stanley that is above de minimis and not based entirely on FA; therefore, the Department assigned to the companies not individually examined, but which demonstrated their eligibility for a separate rate, the weighted-average dumping margin calculated for Stanley.

¹¹ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

Methodology

The Department is conducting this review in accordance with sections 751(a)(1)(B) and 751(a)(2)(A) of the Act. Constructed export prices and export prices have been calculated in accordance with section 772 of the Act. Because the PRC is a non-market economy country within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (“ACCESS”). ACCESS is available to registered users at http://access.trade.gov, and is available to all parties in the Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

The Department preliminarily determines that the following weighted-average dumping margins exist for the period August 1, 2014, through July 31, 2015:

Exporter | Weighted- average margin (percent)
Stanley | 5.90
Certified Products International Inc | 5.90
Chiieh Yung Metal Ind. Corp ¹² | 5.90
Dezhou Hualude Hardware Products Co., Ltd | 5.90
Hebei Cangzhou New Century Foreign Trade Co., Ltd | 5.90
Mingguang Abundant Hardware Products Co., Ltd | 5.90
Mingguang Ruifeng Hardware Products Co., Ltd | 5.90
Nanjing Caiqing Hardware Co., Ltd | 5.90
Qingdao D&L Group Ltd | 5.90
SDC International Aust. PTY. Ltd | 5.90
Shandong Dinglong Import & Export Co., Ltd | 5.90
Shandong Oriental Cherry Hardware Group Co., Ltd | 5.90
Shanghai Curvet Hardware Products Co., Ltd | 5.90
Shanghai Yueda Nails Industry Co., Ltd | 5.90
Shanxi Hairui Trade Co., Ltd | 5.90
Shanxi Pioneer Hardware Industrial Co., Ltd | 5.90
Shanxi Tianli Industries Co., Ltd | 5.90
S-Mart (Tianjin) Technology Development Co., Ltd | 5.90
Suntec Industries Co., Ltd | 5.90
Tianjin Jinchi Metal Products Co., Ltd | 5.90
Tianjin Jinghai County Hongli Industry & Business Co., Ltd | 5.90
Tianjin Universal Machinery Imp. & Exp. Corporation ¹³ | 5.90

Disclosure, Public Comment and Opportunity To Request a Hearing

¹² Although, the Department initiated this administrative review on Chiieh Yung Metal Industrial Corporation, the company name, Chiieh Yung Metal Ind. Corp., was the only name listed in the business license that was submitted in the separate rate application. Accordingly, the Department is granting a separate rate to Chiieh Yung Metal Ind. Corp.

¹³ Although, the Department initiated this administrative review on Tianjin Universal Machinery Import and Export Corp., the company name, Tianjin Universal Machinery Imp. & Exp. Corporation. was the only name listed in the business license that was submitted in the separate rate application. Accordingly, the Department is granting a separate rate to Tianjin Universal Machinery Imp. & Exp. Corporation.

The Department intends to disclose the calculations used in our analysis to parties in this review within five days of the date of publication of this notice in accordance with 19 CFR 351.224(b).

Interested parties may submit case briefs within 30 days after the date of publication of these preliminary results of review in the Federal Register.¹⁴ Rebuttals to case briefs, which must be limited to issues raised in the case briefs, must be filed within five days after the time limit for filing case briefs.¹⁵ Parties who submit arguments are requested to submit with the argument (a) a statement of the issue, (b) a brief summary of the argument, and (c) a table of authorities.¹⁶ Parties submitting briefs should do so pursuant to the Department's electronic filing system, ACCESS.¹⁷

¹⁴ See 19 CFR 351.309(c)(1)(ii).

¹⁵ See 19 CFR 351.309(d)(1)-(2).

¹⁶ See 19 CFR 351.309(c)(2), (d)(2).

¹⁷ See 19 CFR 351.303 (for general filing requirements).

Any interested party may request a hearing within 30 days of publication of this notice.¹⁸ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.¹⁹

¹⁸ See 19 CFR 351.310(c).

¹⁹ See 19 CFR 351.310(d).

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.²⁰ The Department intends to issue assessment instructions to CBP 15 days after the publication date of the final results of this review.

²⁰ See 19 CFR 351.212(b).

For assessment purposes, the Department applied the assessment rate calculation method adopted in Antidumping Proceedings: Calculation of the Weighted-Average Dumping Margin and Assessment Rate in Certain Antidumping Proceedings: Final Modification.²¹ For any individually examined respondent whose weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.²² Where either a respondent's weighted average dumping margin is zero or de minimis, or an importer- (or customer-) specific ad valorem rate is zero or de minimis, the Department will instruct CBP to liquidate appropriate entries without regard to antidumping duties.²³ For the respondents that were not selected for individual examination in this administrative review and that qualified for a separate rate, the assessment rate will be based on the average of the mandatory respondents.²⁴ We intend to instruct CBP to liquidate entries containing subject merchandise exported by the PRC-wide entity at the PRC-wide rate.

²¹ See Antidumping Proceedings: Calculation of the Weighted-Average Dumping Margin and Assessment Rate in Certain Antidumping Proceedings: Final Modification, 77 FR 8101 (February 14, 2012) in the manner described in more detail in the Preliminary Decision Memorandum.

²² See 19 CFR 351.212(b)(1).

²³ See 19 CFR 351.106(c)(2).

²⁴ See Preliminary Decision Memorandum.

Pursuant to the Department's practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.²⁵

²⁵ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

This preliminary determination is issued and published in accordance with sections 751(a)(1) and 777(i)(1) of the Act, and 19 CFR 351.221(b)(4).

Dated: September 1, 2016.
Paul Piquado,
Assistant Secretary for Enforcement and Compliance.

Appendix 1

List of Topics Discussed in the Preliminary Decision Memorandum

1. Summary

2. Background

3. Scope of the Order

4. Preliminary Determination of No Shipments

5. Non-Market Economy Country Status

6. PRC-Wide Entity

7. Separate Rates

8. Application of Facts Available and Use of Adverse Inference

9. Facts Available

10. Surrogate Country

11. Date of Sale

12. Comparisons to Normal Value

13. U.S. Price

14. Normal Value

15. Factor Valuations

16. Currency Conversion

17. Recommendation

Appendix 2

Companies Subject to This Administrative Review That Are Considered To Be Part of the PRC-Wide Entity

Cana (Tianjin) Hardware Industrial Co., Ltd.

China Staple Enterprise (Tianjin) Co., Ltd.

Huanghu Jinhai Hardware Products Co. Ltd.

Huanghua Xiong Hua Hardware Product Co., Ltd.

Huanghua Yufutai Hardware Products Limited

Liaocheng Minghui Hardware Products Co., Ltd.

Mingguang Abundant Hardware Products Co., Ltd.

Qingdao D&L Group Co., Ltd.

Shandong Qingyun Hongyi Hardware Products Co., Ltd.

Shanghai Yueda Fasterners Co., Ltd.

Shanxi Tianli Enterprise Co., Ltd.

Smart (Tianjin) Technology Development Co., Ltd.

Tianjin Hongli Qiangsheng Import and Export Co., Ltd.

Tianjin Lianda Group Ltd.

[FR Doc. 2016-21883 Filed 9-9-16; 8:45 am]

BILLING CODE 3510-DS-P